DEPARTMENT OF COMMERCE

International Trade Administration

(A-580-816)

Certain Corrosion-Resistant Carbon Steel Flat Products from the Republic of Korea: Notice of Final Results of Antidumping Duty New Shipper Review

AGENCY: Import Administration, International Trade Administration, U.S. Department of Commerce.

SUMMARY: On January 23, 2008, the Department of Commerce (the Department) published the preliminary results of the new shipper review of the antidumping duty order on certain corrosion-resistant carbon steel products (CORE) from the Republic of Korea (Korea). This review covers Haewon MSC Co. Ltd. (Haewon). Based on our analysis of comments received¹ concerning our preliminary results, we have made certain changes to these final results in the section listed as Changes Since the Preliminary Results. The final results are listed in the section Final Results of Review below.

¹ Case briefs and rebuttal briefs were submitted by the following domestic interested parties and respondent: On February 22, 2008, United States Steel Corporation (US Steel), and Nucor Corporation (Nucor) (collectively, the petitioners) filed case briefs (respectively, US Steel's Case Brief, and Nucor's Case Brief). On February 29, 2008, US Steel, and Nucor filed rebuttal briefs (respectively, US Steel's Rebuttal Brief, and Nucor's Rebuttal Brief). On February 22, 2008, Haewon MSC Co. Ltd. (Haewon) filed a case brief (Haewon's Case Brief). On February 29, 2008, respondent filed a rebuttal brief (Haewon's Rebuttal Brief).

EFFECTIVE DATE: June 23, 2008.

FOR FURTHER INFORMATION CONTACT:

Victoria Cho or George McMahon, AD/CVD Operations, Office 3, Import Administration, International Trade Administration, U.S. Department of Commerce, 14th Street and Constitution Avenue, NW, Washington, DC 20230; telephone at (202) 482-5075, or (202) 482-1167, respectively.

SUPPLEMENTARY INFORMATION:

Background

On January 23, 2008, the Department published the preliminary results of the new shipper review of the antidumping duty order on CORE from Korea. See Certain Corrosion-Resistant Carbon Steel Flat Products from the Republic of Korea: Notice of Preliminary Results of Antidumping Duty New Shipper Review, 73 FR 3925 (January 23, 2008) (Preliminary Results).

Scope of the Order

This order covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.49.0091, 7210.49.0095, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in the order are flat-rolled products of non-rectangular cross-section where such cross-section is achieved subsequent to the rolling process including products which have been beveled or rounded at the edges (i.e., products which have been “worked after rolling”). Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio.

These HTSUS item numbers are provided for convenience and customs purposes. The written descriptions remain dispositive.

Bona Fide Analysis

In the Preliminary Results, we found that Haewon's reported U.S. sale was a bona fide sale, as required by 19 CFR 351.214(b)(2)(iv)(c) based on the totality of facts on the record. See Memorandum from George McMahon and Victoria Cho, Case Analysts, to Melissa Skinner, Office Director, in the file entitled, “Corrosion-Resistant Carbon Steel Flat Products from Korea: Antidumping New Shipper Review of Haewon MSC Co., Ltd.: Bona Fide Analysis Memorandum,” (Bona Fide Memo), dated January 15, 2008, on file in the Central Records Unit for Import Administration (CRU), room 1117, of the main Department of Commerce building. For the Final Results, we continue to find that Haewon's sale was a bona fide commercial transaction. See Haewon's Final Results Calculation Memo.

Analysis of Comments Received

All issues raised in the case and rebuttal briefs by parties to this review are addressed in the April 14, 2008, “Issues and Decisions for the Final Results of the New Shipper Review of the Antidumping Duty Order on Certain Corrosion-Resistant Carbon Steel Flat Products from the Republic of Korea” (Decision Memorandum), which is hereby adopted by this notice. Attached to this notice as an appendix is a list of the issues which parties have raised and to which we have responded in the Decision Memorandum. Parties can find a complete discussion of all issues raised in this review and the corresponding recommendations in this public memorandum, which is on file in the CRU. In addition, a complete version of the Decision Memorandum can be accessed directly on the Web at http://www.ia.ita.doc.gov/frn. The paper copy and electronic version of the Decision Memorandum are identical in content.

Changes Since the Preliminary Results

Based on our analysis of the comments received, we have made changes in the calculations for the final dumping margin. The Department has reconsidered its position from the preliminary results with respect to Haewon's toll produced CORE that was preliminarily excluded from the company's home market sales database. The facts in this case indicate that in the back-to-back transactions, Haewon purchased cold-rolled coil from Company A², galvanized the coil into CORE, and then sold the CORE back to Company A. In both transactions, title passed, first from Company A to Haewon for the cold-rolled coil, and then from Haewon to Company A for the CORE. Based upon these facts, we determine that Haewon transferred ownership in the CORE to Company A for consideration. Accordingly, we find that these sales constitute sales of foreign like product that should be included in Haewon's home market database and included in the dumping margin calculation for these final results.

² Due to the proprietary nature of this discussion, see the accompanying Issues and Decision Memorandum at Comment 7 and the Final Results Calculation Memorandum.

In addition, we have revised Haewon's SG&A calculation for these final results to include certain expenses. Due to the proprietary nature of this issue, see Comment 9 of the accompanying Issues and Decision Memorandum and the “Final Results Calculation Memorandum.” For purposes of these final results, we disregarded below cost sales of a given product and used the remaining sales as the basis for determining NV, in accordance with section 773(b)(1) of the Act. Furthermore, we used constructed value (CV) when making comparisons for Haewon's normal value to export price. See sections 773(a)(4) and 773(e)(2)(B)(ii) of the Act. For further details, see the “Final Results Calculation Memorandum.”

Final Results of Review

We find that the following dumping margin exists for the period August 1, 2006, through April 10, 2007:³

³ Note that the Department extended the POR until April 10, 2007 in order to include HMSC's U.S. sale, which entered on this particular date. See Department's letter to Haewon, dated May 23, 2007.

Exporter/manufacturer: | Weighted-average margin percentage:
Haewon MSC Co. Ltd. | 0.00 percent

Assessment Rates

The Department shall determine, and U.S. Customs and Border Protection (CBP) shall assess, antidumping duties on all appropriate entries. For subject merchandise produced and exported by Haewon, we will instruct CBP to liquidate entries at the rate indicated above. The Department intends to issue appropriate assessment instructions directly to CBP 15 days after publication of these final results of this new shipper review.

The Department clarified its “automatic assessment” regulation on May 6, 2003. See Antidumping and Countervailing Duty Proceedings: Assessment of Antidumping Duties, 68 FR 23954 (May 6, 2003). This clarification will apply to entries of subject merchandise during the period of review produced by the respondent for which it did not know its merchandise was destined for the United States. In such instances, we will instruct CBP to liquidate unreviewed entries at the all others rate if there is no rate for the intermediate company(ies) involved in the transaction. For a full discussion of this clarification, see Antidumping and Countervailing Duty Proceedings: Assessment of Antidumping Duties, 68 FR 23954 (May 6, 2003).

Cash Deposit Rates

The following antidumping duty deposits will be required on all shipments of CORE from Korea entered, or withdrawn from warehouse, for consumption, effective on or after the publication date of this new shipper review, as provided by section 751(a)(2)(C) of the Tariff Act of 1930, as amended (the Act): (1) for subject merchandise produced and exported by Haewon, the cash deposit rate will be the rate listed above (except no cash deposit will be required if a company's weighted-average margin is de minimis, i.e., less than 0.5 percent); (2) for previously reviewed or investigated companies not listed above, the cash deposit rate will continue to be the company-specific rate published for the most recent period; (3) if the exporter is not a firm covered in this review, a previous review, or the less-than-fair-value (LTFV) investigation, but the manufacturer is, the cash deposit rate will be the rate established for the most recent period for the manufacturer of the merchandise; and (4) the cash deposit rate for all other manufacturers or exporters will continue to be 17.70 percent, the all others rate established in the LTFV investigation.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results of review in accordance with sections 751(a)(2)(B) and 777(i)(1) of the Act.

Dated: June 13, 2008.
David M. Spooner,
Assistant Secretary for Import Administration.

APPENDIX I

List of Comments in the Accompanying Issues and Decision Memorandum

Comment 1: Circumvention of the New Shipper Review

Comment 2: Arm's-Length Transaction Between Parties

Comment 3: Haewon's Future Sales

Comment 4: Quantity and Value of Haewon's Sale to the United States

Comment 5: Timely Filing of the New Shipper Review

Comment 6: COP/CV Data for an Inappropriate Period

COP Issues

Comment 7: Revision of Haewon's G&A and Interest Expense Ratios to Account for Tolling

Comment 8: Whether to Recalculate Interest Expenses

Comment 9: Revised SG&A Expenses from Verification

[FR Doc.E8-14129 Filed 6-20-08; 8:45 am]

BILLING CODE 3510-DS-S